DEPARTMENT OF AGRICULTURE

Food and Nutrition Service

Agency Information Collection Activities: Proposed Collection; Comment Request—Supplemental Nutrition Assistance Program Repayment Demand and Program Disqualification

AGENCY: Food and Nutrition Service, USDA.

ACTION: Notice.

SUMMARY: In accordance with the Paperwork Reduction Act of 1995, this notice invites the general public and other public agencies to comment on proposed information collections. This collection is a revision of currently approved information collection requirements associated with initiating collection actions against households who have received an overissuance in the Supplemental Nutrition Assistance Program (SNAP).

DATES: Written comments must be submitted on or before August 28, 2017 to be assured consideration.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jane Duffield, Chief, State Administration Branch, Food and Nutrition Service, U.S. Department of Agriculture, 3101 Park Center Drive, Room 822, Alexandria, VA 22302. Comments may also be submitted via email to SNAPSAB@fns.usda.gov, or through the federal eRulemaking Portal. Go to http://www.regulations.gov, and follow the online instructions for submitting comments electronically.

All written comments will be open for public inspection at the office of the Food and Nutrition Service during regular business hours (8:30 a.m. to 5 p.m. Monday through Friday) at 3101 Park Center Drive, Room 822, Alexandria, Virginia 22302.

All responses to this notice will be summarized and included in the request for Office of Management and Budget approval. All comments will be a matter of public record.

FOR FURTHER INFORMATION CONTACT: Requests for additional information or copies of this information collection should be directed to Ralph Badette at 703-457-7717.

SUPPLEMENTARY INFORMATION:

Title: Supplemental Nutrition Assistance Program Repayment Demand and Program Disqualification.

OMB Number: 0584-0492.

Form Number: None.

Expiration Date: August 31, 2017.

Type of Request: Revision of a currently approved collection.

Abstract: Section 13(b) of the Food and Nutrition Act of 2008, as amended (7 U.S.C. 2022(b)), and Supplemental Nutrition Assistance Program (SNAP) regulations at 7 CFR 273.18 require State agencies to initiate collection action against households that have been overissued benefits. To initiate collection action, State agencies must provide an affected household with written notification informing the household of the claim and demanding repayment. This process is automated in most State agencies. Note that for overissuance claims, this information collection only covers the activities associated with initiating collection. The burden associated with reporting collections and other claims management information on the FNS-209 form is covered under currently approved under the Food Program Reporting System OMB number 0584-0594, expiration date 6/30/2019. The burden associated with referring delinquent claims and receiving collections through the Treasury Offset Program is covered under currently approved OMB number 0584-0446, expiration date 9/30/2019.

SNAP regulations at 7 CFR 273.16(e)(3) require State agencies to investigate any case of suspected fraud and, where applicable, make an intentional Program violation (IPV) determination either administratively or judicially. Notifications and activities involved in the IPV process include:

• The State agency providing written notification informing an individual suspected of committing an IPV of an impending administrative disqualification hearing or court action;

• An individual opting to accept the disqualification and waiving the right to an administrative disqualification hearing or court action by signing either a waiver to an administrative disqualification hearing or a disqualification consent agreement in cases of deferred adjudication and returning it to the State agency; and

• Once a determination is made regarding an IPV, the State agency sending notification to the affected individual of the action taken on the administrative disqualification hearing or court decision.

SNAP regulations at 7 CFR 273.16 require State agencies to use disqualified recipient data to ascertain the correct penalty for IPVs, based on prior disqualifications. State agencies determine this by accessing and reviewing records located in the Electronic Disqualified Recipient System (eDRS). eDRS is an automated system developed by FNS that contains records of disqualifications in every State. State agencies are also responsible for updating the system, as required at 7 CFR 237.16, which includes reporting disqualifications in eDRS as they occur and updating eDRS when records are no longer accurate, relevant, or complete.

Summary of Estimated Burden

The burden consists of two major components: The initiation of overissuance collection and actions associated with IPV determinations. The estimated total annual burden for this collection is 203, 079.82 hours (139,052.851 SA reporting hours + 32,372.096 SA recordkeeping hours + 31,654.835 household reporting hours). The net aggregate change to this collection is a decrease of 4,753.18 total burden hours from the currently approved burden of 207,833 hours. The estimated total annual responses for this collection is 3,046,653.32 responses (1,083,671.320 SA reporting total annual response + 971,260.00 SA recordkeeping total annual records + 991,722.00 household reporting total annual responses). The burden hours associated with overissuance collection initiation have increased due to an increase in the amount of claims established in fiscal year (FY) 2015. The burden hours associated with IPV activity have decreased slightly as a result of a decreased number of SNAP households that States initiated IPV activity against in FY2015.

Affected Public: State, Local and Tribal government (SA); Individual/Households (I/H).

Respondent Type: SNAP participants.

SA Reporting Burden

Estimated Number of Respondents: 53.

Estimate Total Number of Responses per Respondent: 38,772.289.

Estimated Total Annual Responses: 2, 054,931.32.

Estimated Time per Response: 0.08342.

Estimated Total Annual Reporting Burden: 203, 079.82.

Initiation of Overissuance Collection CFR 273.18 (a)(2)

For activities related to initiating collection on an overissuance, the estimated annual burden for State agency reporting is decreased by 4,406.557 hours (117,932.518−122,339.075 = 4,406.557).

IPV Determinations CFR 273.16(i)(2)(i)

The State agencies' annual reporting burden for activities related to IPV hearing and disqualification notices decreased by 679.513 hours (7,752.488−7,072.975 = 679.513), and activities associated with accessing and updating eDRS increased by 1251.95 hours (4,788.225−3,536.275 = 1251.95).

SA Recordkeeping Burden

Estimated Number of Recordkeepers: 53.

Estimated Total Records per Recordkeeper: 16,688.98.

Estimated Total Annual Records: 971,260.

Estimated Average # of Hours per Response: 0.03333.

Estimated Total Recordkeeping Hours: 32,372.096.

Initiation of Overissuance Collection CFR 272.1(f)

For activities related to initiating collection on an overissuance, we are increasing the estimated annual burden for State agency recordkeeping by 6,550.414 hours (29,480.918−22,930.504 = 6,550.414).

IPV Determinations CFR 272.1(f)

States' annual recordkeeping burden for the IPV related activities decreased by −504.52 burden hours (2,891.178−3,395.699 = −504.52).

I/H Reporting Burden

Estimated Number of Respondents: 917,566.

Estimated Number of Responses per Respondent: 1.0.

Total Number of Annual Responses: 991,722.

Estimated Time per Response: 0.03192.

Estimated Total Annual Reporting Burden: 31,654.835.

Initiation of Overissuance Collection CFR 273.18(a)(2).

For activities related to initiating collection on an overissuance, we are increasing the household reporting burden by 7,652 hours (29,480.918−22,930.504 = 6,550.414).

IPV Hearing Notices and Disqualifications CFR 273.16(e)(9)

The household annual reporting burden for the activities related to IPV disqualifications has also decreased by −420 hours (707.281−836.297 = −129.016).

Grand Total Burden Reporting and Recordkeeping Burden: 203, 079.782 and the total annual responses 3,046,653.320.

Title | CFR section of regulations | Estimated number respondents | Responses per respondent | Total annual responses (Col. D × E) | Estimated avg. number of hours per response | Estimated total hours (Col. F × G) | Previously approved | Due to program change | Due to an adjustment | Total difference
STATE AGENCY
Reporting Burden
Demand Letter for Overissuance | 273.18(a)(2) | 53 | 17,312.57 | 884,516.000 | 0.13333 | 117,932.518 | 122,339.075 | 0.000 | −4,406.557 | −4,406.557
Notice for Hearing or Prosecution | 273.16(e)(3) | 53 | 825.34 | 40,230.000 | 0.13333 | 5,363.866 | 5,832.540 | 0.000 | −468.674 | −468.674
Action Taken on Hearing or Court Decision: For IPV Findings | 273.16(e)(9) | 53 | 800.70 | 46,514.000 | 0.16667 | 7,752.488 | 7,072.975 | 0.000 | 679.513 | 679.513
Action Taken on Hearing or Court Decision: For No IPV Findings | 273.16(e)(9) | 53 | 24.64 | 1,541.000 | 0.08333 | 128.412 | 108.829 | 0.000 | 19.583 | 19.583
Electronic Disqualified Recipient System Breakout: For eDRS Reporting | 273.16(i)(2)(i) | 53 | 800.70 | 57,461.000 | 0.08333 | 4,788.225 | 3,536.275 | 0.000 | 1,251.950 | 1,251.950
Electronic Disqualified Recipient System Breakout: For Editing and Resubmission | 272.1(f)(3) | 53 | 96.08 | 6,895.320 | 0.16667 | 1,149.243 | 848.684 | 0.000 | 300.559 | 300.559
Electronic Disqualified Recipient System Breakout: For Penalty Checks using Mainframe | 273.16(i)(4) | 53 | 800.70 | 46,514.000 | 0.04167 | 1,938.099 | 1,768.222 | 0.000 | 169.877 | 169.877
Total State Agency Reporting Burden |  | 53 | 20,660.730 | 1,083,671.320 | 0.12832 | 139,052.851 | 19,167,239.00 | 0.000 | −2,453.749 | −2,453.749

Title |  | Estimated number recordkeepers | Records per recordkeeper | Annual records | Estimated avg. number of hours per records | Estimated total annual records | Previously approved | Due to program change | Due to an adjustment | Total difference
Recordkeeping
Recordkeeping Breakout: For initiating Collection Action | 272.1(f) | 53 | 16,688.98 | 884,516.000 | 0.03333 | 29,480.918 | 22,930.504 | 0.000 | 6,550.414 | 6,550.414
Recordkeeping Breakout: For IPVs | 272.1(f) | 53 | 1,626.04 | 86,744.000 | 0.03333 | 2,891.178 | 3,395.699 | 0.000 | −504.521 | −504.521
Total State Agency Recordkeeping Burden |  | 53 | 18,315.021 | 971,260.000 | 0.03333 | 32,372.096 | 26,326.203 | 0.000 | 6,045.893 | 6,045.893

| CFR section of regulations | Estimated number respondents | Responses per respondent | Total annual responses | Estimated avg. number of hours per pesponse | Estimated total hours | Previously approved | Due to program change | Due to an adjustment | Total difference
Total state agency burden |  | 53 | 38,772.289 | 2,054,931.32 | 0.08342 | 171,424.947 | 19,193,565.20 | 0.000 | 3,592.144 | 3,592.144

Title |  | Estimated number respondents | Responses per respondent | Total annual responses (Col. D × E) | Estimated avg. number of hours per response | Estimated total hours (Col. F × G) | Previously approved | Due to program change | Due to an adjustment | Total difference
HOUSEHOLD
Reporting Burden
Demand Letter for Overissuance | 273.18(a)(2) | 917,566.00 | 1.00 | 884,516.000 | 0.03333 | 29,480.918 | 22,930.504 | 0.000 | 6,550.414 | 6,550.414
Notice for Hearing or Prosecution | 273.16(e)(3) | 43,743.00 | 1.00 | 40,230.000 | 0.016667 | 670.513 | 861.532 | 0.000 | −191.019 | −191.019
Administrative Disqualification Hearing Waiver | 273.16(i)(2) | 18,112.00 | 1.00 | 20,320.000 | 0.03333 | 677.266 | 711.062 | 0.000 | −33.796 | −33.796
Disqualification Consent Agreement | 273.16(i)(2) | 6,849.00 | 1.00 | 2,913.000 | 0.03333 | 97.090 | 275.706 | 0.000 | −178.616 | −178.616
Action Taken on Hearing or Court Decision: For IPV Findings | 273.16(e)(9) | 42,437.00 | 1.00 | 42,437.000 | 0.016667 | 707.281 | 836.297 | 0.000 | −129.016 | −129.016
Action Taken on Hearing or Court Decision: For No IPV Findings | 273.16(e)(9) | 1,306.00 | 1.00 | 1,306.000 | 0.016667 | 21.767 | 25.266 | 0.000 | −3.499 | −3.499
Total Household Reporting Burden |  | 917,566 | 1.08082 | 991,722.000 | 0.03192 | 31,654.835 | 25,640.367 | 0.000 | 6,014.468 | 6,014.468
SUMMARY OF BURDEN
State Agency Level |  | 53 |  | 2,054,931.320 |  | 171,424.947 | 19,193,565.20 | 0.000 | 3,592.144 | 3,592.144
Household |  | 917,566 |  | 991,722.000 |  | 31,654.835 | 25,640.367 | 0.000 | 6,014.468 | 6,014.468
Total Burden This Collection |  | 917,619 | 3.32017 | 3,046,653.320 | 0.06666 | 203,079.782 | 19,219,205.57 | 0.000 | 9,606.612 | 9,606.612

Dated: June 15, 2017.
Jessica Shahin,
Acting Administrator, Food and Nutrition Service.

[FR Doc. 2017-13574 Filed 6-28-17; 8:45 am]

BILLING CODE 3410-30-P